DEPARTMENT OF COMMERCE

National Oceanic and Atmospheric Administration

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting via web conference call of the Marine Protected Areas Federal Advisory Committee (Committee). The web conference call is open to the public; participants can dial in to the call. Participants who choose to use the web conferencing feature in addition to the audio will be able to view the presentations as they are being given.

DATES: Members of the public wishing to participate in the meeting should register in advance by Wednesday, November 9, 2016.

The meeting will be held Thursday, November 10, from 2:00 to 4:00 p.m. EDT. These times and the agenda topics described below are subject to change. Refer to the Web page listed below for the most up-to-date meeting agenda.

ADDRESSES: The meeting will be held via web conference call. Register by contacting Nicole Capps at Nicole.Capps@noaa.gov or 831-647-6451.

FOR FURTHER INFORMATION CONTACT: Lauren Wenzel, Designated Federal Officer, MPA FAC, National Marine Protected Areas Center, 1305 East West Highway, Silver Spring, Maryland 20910. (Phone: 240-533-0652); email: lauren.wenzel@noaa.gov; or visit the National MPA Center Web site at http://www.marineprotectedareas.noaa.gov/fac/).

SUPPLEMENTARY INFORMATION: The Committee, composed of external, knowledgeable representatives of stakeholder groups, was established by the Department of Commerce (DOC) to provide advice to the Secretaries of Commerce and the Interior on implementation of Section 4 of Executive Order 13158, on marine protected areas.

Matters To Be Considered: The focus of the meeting is a discussion of the Committee's work on MPA connectivity, including voting on draft recommendations. The agenda is subject to change. The latest version will be posted at http://www.marineprotectedareas.noaa.gov/fac/.

Dated: October 11, 2016.
John Armor,
Acting Director, Office of National Marine Sanctuaries, National Ocean Service, National Oceanic and Atmospheric Administration.

[FR Doc. 2016-26074 Filed 10-27-16; 8:45 am]

BILLING CODE 3510-NK-P